DEPARTMENT OF THE INTERIOR

National Park Service

[2280-665]

National Register of Historic Places; Notification of Pending Nominations and Related Actions

Nominations for the following properties being considered for listing or related actions in the National Register were received by the National Park Service before February 19, 2011. Pursuant to sections 60.13 or 60.15 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St., NW., 8th floor, Washington, DC 20005; or by fax, 202-371-6447. Written or faxed comments should be submitted by March 31, 2011.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National, Historic Landmarks Program.

ARIZONA

Maricopa County

Wickenburg, Henry, Pioneer Cemetery, Adams St, Wickenburg, 11000151

CALIFORNIA

Placer County

Auburn Public Library, (Auburn, CA MPS) 175 Almond St, Auburn, 11000153

OREGON

Washington County

Walker Naylor Historic District, Gayles Way, Covey Run Dr, A St, and 21st Ave, Forest Grove, 11000155

WASHINGTON

Yakima County

Young, Fred and Elizabeth, House, 804 S 22nd Ave, Yakima, 11000150

WISCONSIN

Barron County

St. Mary's Rectory, 1575 Second Ave, Cumberland, 11000152

OTHER ACTIONS: Request for REMOVAL has been made for the following resource.

WISCONSIN

Orange County

1890 Windermere School, 113 W Seventh Ave, Windermere, 03000509

[FR Doc. 2011-6048 Filed 3-15-11; 8:45 am]

BILLING CODE 4312-51-P